ENVIRONMENTAL PROTECTION AGENCY

[FRL-9296-4]

Science Advisory Board Staff Office; Request for Nominations of Candidates to the EPA's Advisory Council on Clean Air Compliance Analysis (Council) EPA's Clean Air Scientific Advisory Committee (CASAC) and EPA's Science Advisory Board (SAB)

AGENCY: Environmental Protection Agency.

ACTION: Notice.

SUMMARY: The U.S. Environmental Protection Agency (EPA) invites nominations of scientific experts from a diverse range of disciplinary areas to be considered for appointment to the Advisory Council on Clean Air Compliance Analysis (Council), Clean Air Scientific Advisory Committee (CASAC), the Science Advisory Board (SAB), or SAB Committees described in this notice. Appointments are anticipated to be filled by the start of Fiscal Year 2012. Sources in addition to this Federal Register Notice may also be utilized in the solicitation of nominees.

DATES: Nominations should be submitted in time to arrive no later than May 16, 2011.

FOR FURTHER INFORMATION CONTACT: Nominators unable to submit nominations electronically as described below may submit a paper copy by the Designated Federal Officers for the committees, as identified below. General inquiries regarding the work of the Council, CASAC and SAB or SAB Standing Committees may also be directed to them.

Background: Established by statute, the Council (42 U.S.C 7612), the CASAC (42 U.S.C. 7409), and SAB (42 U.S.C. 4365) are EPA's chartered Federal Advisory Committees that provide independent scientific and technical peer review, consultation, advice and recommendations directly to the EPA Administrator the scientific bases for EPA's actions and programs. As Federal Advisory Committees, the Council, CASAC, and SAB conduct business in accordance with the Federal Advisory Committee Act (FACA) (5 U.S.C. App. 2) and related regulations. Generally, Council, CASAC and SAB meetings are announced in the Federal Register, conducted in public view, and provide opportunities for public input during deliberations. Additional information about these Federal Advisory Committees may be found at http://www.epa.gov/advisorycouncilcaa, http://www.epa.gov/casac and http://www.epa.gov/sab, respectively.

Members of the Council, CASAC, and the SAB, constitute a distinguished body of non-EPA scientists, engineers, economists, and social scientists that are nationally and internationally recognized experts in their respective fields. Members are appointed by the EPA Administrator for a period of three years. This notice specifically requests nominations for the Council, CASAC, the SAB, and SAB Committees from academia, industry, state, and tribal governments, research institutes, and non-governmental organizations throughout the United States.

Expertise Sought: The Council was established in 1990 pursuant to the Clean Air Act (CAA) Amendments of 1990 to provide advice and recommendations to the EPA Administrator on technical and economic aspects of the impacts of the Clean Air Act (CAA) on the public health, economy, and environment of the United States. The SAB Staff office is seeking nominations for individuals to serve on the Council with demonstrated expertise in air pollution issues. A nominee's expertise may include the following disciplines: Environmental economics; economic modeling; air quality modeling; atmospheric science and engineering; epidemiology; statistics, and human health risk assessment. For further information on the Council, please contact Ms. Stephanie Sanzone, DFO, by telephone at 202-564-2067 or by e-mail at sanzone.stephanie@epa.gov.

Established in 1977 under the Clean Air Act (CAA) Amendments, the chartered CASAC reviews and offers scientific advice to the EPA Administrator on technical aspects of national ambient air quality standards for criteria pollutants. As required under the CAA section 109(d), CASAC will be composed of seven members, with at least one member of the National Academy of Sciences, one physician, and one person representing State air pollution control agencies. The SAB Staff Office is seeking nominations of experts to serve on the CASAC with demonstrated experience in: Public health; environmental medicine; environmental health sciences; and risk assessment. For further information about CASAC, please contact Dr. Holly Stallworth, DFO, by telephone at 202-564-2073 or by e-mail at stallworth.holly@epa.gov.

The chartered SAB was established in 1978 by the Environmental Research, Development and Demonstration Act to provide independent advice to the Administrator on general scientific and technical matters underlying the Agency' policies and actions. All the work of the SAB is under the direction of the Board. The chartered Board provides strategic advice to the EPA Administrator on a variety of EPA science and research programs and reviews and approves all SAB subcommittee and panel reports. The SAB Staff Office is seeking nominations of experts to serve on the chartered SAB in the following disciplines: Social, behavioral and decision sciences; ecological sciences and risk assessment; environmental modeling; environmental economics; environmental engineering; environmental medicine; pediatrics; public health; and human health risk assessment. For further information about the SAB, please contact Dr. Angela Nugent, DFO, by telephone at 202-564-2218 or by e-mail at nugent.angela@epa.gov.

The SAB Drinking Water Committee (DWC) provides advice on the technical aspects of EPA's national drinking water standards program. The SAB Staff Office is seeking nominations of experts to serve on the DWC in the following disciplines: Microbiology; epidemiology; public health; and environmental engineering. For further information about the DWC, please contact Mr. Aaron Yeow, DFO, by telephone at 202-564-2050 or by e-mail at yeow.aaron@epa.gov.

The SAB Environmental Economics Advisory Committee (EEAC) provides advice on methods and analyses related to economics, costs, and benefits of EPA environmental programs. The SAB Staff office is seeking nominations of experts in environmental economics to serve on the EEAC. For further information about the EEAC, please contact Dr. Holly Stallworth, DFO, by telephone at 202-564-2073 or by e-mail at stallworth.holly@epa.gov.

The SAB Exposure and Human Health Committee (EHHC) provides advice on the development and use of guidelines for human health effects, exposure assessment, and human health risk assessment of chemical contaminants. The SAB Staff Office is seeking nominations of experts to serve on the EHHC in the following disciplines: Toxicology; biostatistics; and risk assessment. For further information about the EHHC please contact Dr. Suhair Shallal, DFO, by telephone at 202-564-2057 or by e-mail at shallal.suhair@epa.gov.

The SAB Ecological Processes and Effects Committee (EPEC) provides advice on technical issues related to the science and research to protect and restore the health of ecosystems. The SAB Staff Office is seeking nominations of experts to serve on EPEC with demonstrated expertise in the following disciplines: Aquatic ecology; ecotoxicology; and ecological risk assessment. For further information about the EPEC please contact Dr. Thomas Armitage, DFO, by telephone at 202-564-2155 or by e-mail at armitage.thomas@epa.gov.

The Radiation Advisory Committee (RAC) provides advice on radiation protection, radiation science, and radiation risk assessment. The SAB Staff Office is seeking nominations of experts to serve on RAC with demonstrated expertise in the following disciplines: Radiation biology; radiation biophysics; radiation dosimetry; radiation risk assessment; and cancer epidemiology. For further information about the RAC please contact Dr. K. Jack Kooyoomjian, DFO, by telephone at 202-564-2064 or by e-mail at kooyoomjian.jack@epa.gov.

Selection criteria include:

—Demonstrated scientific credentials and expertise in their own fields.

—Willingness to commit time on the committee and demonstrated ability to work constructively and effectively on committees.

—Background and experiences that would help members contribute to the diversity of perspectives on the committee), e.g., geographic, economic, social, cultural, educational backgrounds, and professional affiliations.

—Consideration of the collective breadth and depth of scientific expertise; a balance of scientific perspectives; and continuity of knowledge and understanding of EPA missions and environmental programs in the context of the committee as a whole.

How To Submit Nominations: Any interested person or organization may nominate qualified persons to be considered for appointment to these chartered advisory committees. Individuals may self-nominate. Nominations should be submitted in electronic format (preferred) following the instructions for “Nominating Experts to a Chartered Advisory Committee” provided on the SAB Web site. The form can be accessed through the “Nomination of Experts” link on the blue navigational bar on the SAB Web site at http://www.epa.gov/sab. To be considered, all nominations should include the information requested. EPA values and welcomes diversity. In an effort to obtain nominations of diverse candidates, EPA encourages nominations of women and men of all racial and ethnic groups.

Nominators are asked to identify the specific committee(s) for which nominees would like to be considered. The Web site requests contact information about: The person making the nomination; contact information about the nominee; the disciplinary and specific areas of expertise of the nominee; the nominee's curriculum vita; and a biographical sketch of the nominee indicating current position, educational background; research activities; and recent service on other national advisory committees or national professional organizations. Persons having questions about the nomination procedures, or who are unable to submit nominations through the SAB Web site, should contact the Designated Federal Officer for the committee, as identified above. Non-electronic submissions must follow the same format and contain the same information as the electronic form. The SAB Staff Office will acknowledge receipt of nominations.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a lack of impartiality, as defined by Federal regulation. The form may be viewed and downloaded through the “Ethics Requirements for Advisors” link on the blue navigational bar on the SAB Web site at http://www.epa.gov/sab. This form should not be submitted as part of a nomination.

To help the Agency in evaluating the effectiveness of its outreach efforts, please tell us how you learned of this opportunity.

Dated: April 6, 2011.
Anthony Maciorowski,
Deputy Director, EPA Science Advisory Board Staff Office.

[FR Doc. 2011-9212 Filed 4-14-11; 8:45 am]

BILLING CODE 6560-50-P